DEPARTMENT OF TRANSPORTATION

Federal Aviation Administration

14 CFR Part 39

[Docket No. FAA-2025-0202; Project Identifier MCAI-2024-00739-A; Amendment 39-22957; AD 2025-03-09]

RIN 2120-AA64

Airworthiness Directives; Costruzioni Aeronautiche Tecnam S.P.A Airplanes

AGENCY: Federal Aviation Administration (FAA), DOT.

ACTION: Final rule; request for comments.

SUMMARY: The FAA is adopting a new airworthiness directive (AD) for certain Costruzioni Aeronautiche Tecnam S.P.A. (Tecnam) Model P2010 and P2010 TDI airplanes. This AD was prompted by the disconnection of a rudder pedals torque tube from one of its hinges. This AD requires modifying the airplane by installing larger diameter retainer washers on both the left-hand (LH) and right-hand (RH) rudder pedals torque tube hinges, installing new self-locking nuts, doing a functional or operating test of the system to ensure the retaining washers are installed properly, and applying a torque stripe on the LH and RH nuts and bolts threads. The FAA is issuing this AD to address the unsafe condition on these products.

DATES: This AD is effective March 3, 2025.

The Director of the Federal Register approved the incorporation by reference of a certain publication listed in this AD as of March 3, 2025.

The FAA must receive comments on this AD by March 31, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0202; or in person at Docket Operations between 9 a.m. and 5 p.m., Monday through Friday, except Federal holidays. The AD docket contains this final rule, the mandatory continuing airworthiness information (MCAI), any comments received, and other information. The street address for Docket Operations is listed above.

Material Incorporated by Reference:

• For Tecnam material identified in this AD, contact TECNAM Costruzioni Aeronautiche S.p.A., Via Maiorise, 81043 Capua CE, Italy; phone: +39 0823 997538; email: technical.support@tecnam.com; website: tecnam.com.

• You may view this material at the FAA, Airworthiness Products Section, Operational Safety Branch, 901 Locust, Kansas City, MO 64106. For information on the availability of this material at the FAA, call (817) 222-5110. It is also available at regulations.gov under Docket No. FAA-2025-0202.

FOR FURTHER INFORMATION CONTACT: Emma Copeland, Aviation Safety Engineer, FAA, 1600 Stewart Avenue, Suite 410, Westbury, NY 11590; phone: (678) 227-4257; email: Emma.M.Copeland@faa.gov.

SUPPLEMENTARY INFORMATION:

Comments Invited

The FAA invites you to send any written data, views, or arguments about this final rule. Send your comments to an address listed under ADDRESSES. Include “Docket No. FAA-2025-0202; Project Identifier MCAI-2024-00739-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Emma Copeland, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued AD 2024-0239, dated December 10, 2024 (EASA AD 2024-0239) (also referred to as the MCAI), to correct an unsafe condition on certain serial-numbered Tecnam Model P2010 and P2010 TDI airplanes, except those on which Tecnam Modification MOD2010/359 has been embodied. The MCAI states that an occurrence was reported of the disconnection of a rudder pedals torque tube from one of its hinges. The unsafe condition, if not addressed, could result in the rudder pedals assembly slipping out of its housing, resulting in the inability of the flightcrew to maintain the safe flight and landing of the airplane and loss of control of the airplane. To address the unsafe condition, Tecnam designed Modification MOD2010/359, which introduces larger diameter retainer washers on the LH and RH rudder pedals torque tube hinges, and issued a modification service bulletin for in-service airplanes. EASA issued the MCAI to require modification of in-service airplanes.

The FAA is issuing this AD to address the unsafe condition on these products. You may examine the MCAI in the AD docket at regulations.gov under Docket No. FAA-2025-0202.

Material Incorporated by Reference Under 1 CFR Part 51

The FAA reviewed TECNAM Service Bulletin No. 817-CS-Ed. 1, Rev. 1, dated December 11, 2024 (TECNAM SB 817-CS-Ed. 1, Rev. 1). This material specifies procedures for modifying the LH and RH rudder pedals torque tube hinges by installing larger diameter retainer washers on the LH and RH rudder pedals torque tube hinges.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and material referenced above. The FAA is issuing this AD after determining that the unsafe condition described previously is likely to exist or develop on other products of the same type design.

AD Requirements

This AD requires accomplishing the actions specified in TECNAM SB 817-CS-Ed. 1, Rev. 1, described previously.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because a rudder pedal torque tube disconnecting from one of its hinges could cause the rudder pedals assembly to slip out of its housing resulting in the inability of the flightcrew to maintain the safe flight and landing of the airplane. Since this condition can result rapidly and without warning, the FAA has determined that the rudder pedal torque tube hinges must be modified within 25 hours time-in-service or 30 days, whichever occurs first after the effective date of this AD. These compliance times are shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 100 airplanes of U.S. registry.

The FAA estimates the following costs to comply with this AD:

Estimated Costs
Action | Labor cost | Parts cost | Cost per product | Cost on U.S. operators
Modify the airplane (including installing larger diameter retainer washers, installing new self-locking nuts, doing a functional or operating test of the system, and applying a torque stripe on the LH and RH nuts and bolts threads) | 1 work-hour × $85 per hour = $85 | $30 | $115 | $11,500

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-03-09 Costruzioni Aeronautiche Tecnam S.P.A.: Amendment 39-22957; Docket No. FAA-2025-0202; Project Identifier MCAI-2024-00739-A.

(a) Effective Date

This airworthiness directive (AD) is effective March 3, 2025.

(b) Affected ADs

None.

(c) Applicability

This AD applies to Costruzioni Aeronautiche Tecnam S.P.A. (Tecnam) Model P2010 and P2010 TDI airplanes, all serial numbers (S/Ns) up to and including S/N 317, certificated in any category, except those on which the Tecnam modification MOD2010/359 has been installed.

(d) Subject

Joint Aircraft System Component (JASC) Code 2720, Rudder Control System.

(e) Unsafe Condition

This AD was prompted by the disconnection of a rudder pedals torque tube from one of its hinges. The FAA is issuing this AD to address the unsafe condition. The unsafe condition, if not addressed, could result in the rudder pedals assembly slipping out of its housing, resulting in the inability of the flightcrew to maintain the safe flight and landing of the airplane and loss of control of the airplane.

(f) Compliance

Comply with this AD within the compliance times specified, unless already done.

(g) Required Actions

Within 25 hours time-in-service or 30 days, whichever occurs first after the effective date of this AD, modify your airplane by installing larger diameter retainer washers on the left-hand (LH) and right-hand (RH) rudder pedals torque tube hinges, installing new self-locking nuts, doing a functional or operating test of the system to ensure the retaining washers are installed properly and do not interfere with the lugs, and applying a torque stripe on the LH and RH nuts and bolts threads, in accordance with steps N 3, 4, 5, 6, and 7 of Appendix B, Accomplishment Instructions, in TECNAM Service Bulletin No. 817-CS-Ed. 1, Rev. 1, dated December 11, 2024.

(h) Special Flight Permits

A one-time special flight permit may be issued in accordance with 14 CFR 21.197 and 21.199 in order to fly to a maintenance base to perform the required action in this AD provided it is a non-revenue flight and limited to only essential flight crew.

(i) Credit for Previous Actions

You may take credit for the actions required by paragraph (g) of this AD if you performed those actions before the effective date of this AD using TECNAM Service Bulletin No. 817-CS-Ed. 1, Rev. 0, dated December 6, 2024.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD and email to: AMOC@faa.gov. Before using any approved AMOC, notify your appropriate principal inspector, or lacking a principal inspector, the manager of the local flight standards district office/certificate holding district office.

(k) Additional Information

(1) For more information about this AD, contact Emma Copeland, Aviation Safety Engineer, FAA, 1600 Stewart Avenue, Suite 410, Westbury, NY 11590; phone: (678) 227-4257; email: Emma.M.Copeland@faa.gov.

(2) Material identified in this AD that is not incorporated by reference is available at the address specified in paragraph (l)(3) of this AD.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) TECNAM Service Bulletin No. 817-CS-Ed. 1, Rev. 1, dated December 11, 2024.

(ii) [Reserved]

(3) For Tecnam material identified in this AD, contact TECNAM Costruzioni Aeronautiche S.p.A., Via Maiorise, 81043 Capua CE, Italy; phone: +39 0823 997538; email: technical.support@tecnam.com; website: tecnam.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on February 7, 2025.
Victor Wicklund,
Deputy Director, Compliance & Airworthiness Division, Aircraft Certification Service.

[FR Doc. 2025-02638 Filed 2-13-25; 8:45 am]

BILLING CODE 4910-13-P